DEPARTMENT OF THE INTERIOR

Bureau of Land Management

[WO-310-06-1310-PP]

Section 365 of the Energy Policy Act of 2005, Implementation of the Pilot Project To Improve Federal Permit Coordination; Public Listening Sessions

AGENCY: Bureau of Land Management, Interior.

ACTION: Notice of public listening session.

SUMMARY: Two public listening sessions will be held by the Bureau of Land Management ( BLM) to solicit views from the public on implementation of the Pilot Project provisions of the Energy Policy Act of 2005. Section 365 of the Energy Policy Act directs the Secretary of the Interior to establish seven BLM Field Offices as oil and gas streamlining Project Offices. The offices are: Rawlins, Wyoming; Buffalo, Wyoming; Miles City, Montana; Farmington, New Mexico; Carlsbad, New Mexico; Grand Junction/Glenwood Springs, Colorado; and Vernal, Utah. The Act directs that within 90 days from the date the Act was signed (August 8, 2005) that a Memorandum of Understanding be signed between the U.S. Department of the Interior and the U.S. Department of Agriculture, the Environmental Protection Agency, and the U.S. Army Corps of Engineers. The Memorandum of Understanding was signed October 24, 2005. In addition, Section 365 specifies that not later than 3 years after the date of enactment, the Secretary of the Interior shall submit to Congress a report that outlines the results of the Pilot Project, and makes recommendations to the President regarding whether the Pilot Project should be implemented throughout the United States. The public listening sessions will provide an opportunity for the public to comment on the progress made in the first year of the Pilot Project.

Dates and Location: Two public listening sessions are scheduled for November 14, 2006 in Denver, Colorado, at the Renaissance Denver Hotel, 3801 Quebec Street, Denver Colorado 80207. The first listening session will be held from 2 p.m. MST to 4 p.m. MST. The second listening session will be held from 6 p.m. MST to 8 p.m. MST.

FOR FURTHER INFORMATION CONTACT: Alan Kesterke, Energy Policy Liaison for the Energy Act Implementation Team at (307) 775-6001.

SUPPLEMENTARY INFORMATION: The public listening sessions will begin with an overview of progress on the Pilot Project. Participants who request to speak will be provided a set amount of time to provide their comments.

Thomas Lonnie,
Assistant Director, Minerals, Realty and Resource Protection.

[FR Doc. E6-16586 Filed 10-5-06; 8:45 am]

BILLING CODE 4310-84-P